DEPARTMENT OF COMMERCE

National Oceanic and Atmospheric Administration

[I.D. 060204A]

Mid-Atlantic Fishery Management Council; Public Meetings

AGENCY: National Marine Fisheries Service (NMFS), National Oceanic and Atmospheric Administration (NOAA), Commerce.

ACTION: Notice of public meeting.

SUMMARY: The Mid-Atlantic Fishery Management Council (Council) and its Atlantic Mackerel, Squid, Butterfish Committee (with Advisors), Executive Committee, and Research Set-Aside Committee will hold public meetings.

DATES: The meetings will be held on Monday, June 21, through Thursday, June 24, 2004. See SUPPLEMENTARY INFORMATION for specific dates and times.

ADDRESSES: This meeting will be held at the Hershey Lodge and Convention Center, West Chocolate Avenue and University Drive, Hershey, PA; telephone: (717) 533-3311.

Council address: Mid-Atlantic Fishery Management Council, 300 S. New Street, Dover, DE 19904; telephone: (302) 674-2331.

FOR FURTHER INFORMATION CONTACT: Daniel T. Furlong, Executive Director, Mid-Atlantic Fishery Management Council; telephone: 302-6742331, ext. 19.

SUPPLEMENTARY INFORMATION: The Atlantic Mackerel, Squid, and Butterfish Committee with its Advisory Panel will meet from 1 p.m. to 5 p.m. on Monday, June 21 and continue on Tuesday, June 22 from 8 a.m. until 5 p.m. On Wednesday, June 23, Council will meet from 8 a.m. until 6 p.m. On Thursday, June 24, the Executive Committee will meet from 8 a.m. to 9 a.m. The Research Set-Aside Committee will meet from 9 a.m. to 10 a.m. Council will meet from 10 a.m. until approximately 2 p.m.

Agenda items for the Council's committees and the Council itself are: Review the Atlantic Mackerel, Squid and Butterfish Monitoring Committee's recommendations and develop 2005 quota levels and associated management measures; Discuss status of the public hearing document for Amendment 9 to the Atlantic Mackerel, Squid, Butterfish Plan and develop and adopt preferred alternatives for the following: Extending the moratorium on entry to the commercial Illex fishery; Allowing for specification of management measures for multiple years; Allowing for the transit of vessels through the U.S. Exclusive Economic Zone (EEZ) with Illex caught outside of the U.S. EEZ; Revising the current overfishing definition for Loligo squid; Implementing measures to reduce discards; Identifying essential fish habitat for Loligo squid eggs; Review Atlantic Mackerel, Squid, Butterfish Committee's recommendations and develop and adopt 2005 quota specifications and associated management measures; Discuss implication for clam industry of NMFS certification of a new vessel monitoring system; Develop and adopt multi-year quota specifications and associated management measures for surfclams and ocean quahogs; Address establishment of a fishery research trust fund using proceeds from sale of research set-aside quota; Address use of public workshop to aid in developing research set-aside priorities; Discuss use of pre-proposals prior to technical review; Receive a NMFS presentation on Issues and Options regarding Amendment 2 to the NMFS Atlantic Tunas, Swordfish, and Sharks Fishery Management Plan; the Council will also receive and discuss committee and organizational reports including the New England Council's report regarding possible actions on herring, groundfish, monkfish, red crab, scallops, skates, and whiting; the South Atlantic Council's report; Highly Migratory Species (HMS) issues; and act on any new and/or continuing business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to Debbie Donnangelo at the Council (see ADDRESSES) at least 5 days prior to the meeting date.

Dated: June 2, 2004.
Alan D. Risenhoover,
Acting Director, Office of Sustainable Fisheries, National Marine Fisheries Service.

[FR Doc. E4-1258 Filed 4-7-04; 8:45 am]

BILLING CODE 3510-22-S